DEPARTMENT OF HOMELAND SECURITY

Federal Emergency Management Agency

44 CFR Part 67

[Docket ID FEMA-2011-0002; Internal Agency Docket No. FEMA-B-1229]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 13, 2012.

ADDRESSES: The corresponding preliminary Flood Insurance Rate Map (FIRM) for the proposed BFEs for each community is available for inspection at the community's map repository. The respective addresses are listed in the table below.

You may submit comments, identified by Docket No. FEMA-B-1229, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Snyder, Oklahoma
Oklahoma | City of Snyder | Tributary 1 | Approximately 1,200 feet downstream of A Street | None | +1347
|  |  | Approximately 160 feet downstream of A Street | None | +1348
| City of Snyder | Tributary 2 | Approximately 950 feet downstream of B Street to approximately 850 feet downstream of B Street | None | +1353
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Snyder
Maps are available for inspection at City Hall, 721 E Street, Snyder, OK 73566.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Cass County, Indiana, and Incorporated Areas
Crooked Creek | Approximately 0.44 mile upstream of the Wabash River confluence | None | +569 | Unincorporated Areas of Cass County.
| Approximately 0.39 mile upstream of West County Road 100 North | None | +636
Goose Creek | At the upstream side of Cliff Drive | None | +591 | City of Logansport, Unincorporated Areas of Cass County.
| Approximately 200 feet upstream of Humphrey Boulevard | None | +598
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Logansport
Maps are available for inspection at City Hall, 601 East Broadway Street, Room 303, Logansport, IN 46947.
Unincorporated Areas of Cass County
Maps are available for inspection at the Cass County Government Building, 200 Court Park, Logansport, IN 46947.
Harrison County, Indiana, and Incorporated Areas
Blue River (backwater effects from Ohio River) | At the Ohio River confluence | None | +431 | Unincorporated Areas of Harrison County.
| Approximately 530 feet downstream of State Route 462 | None | +431
Blue River | Approximately 1.7 miles downstream of Main Street | None | +540 | Unincorporated Areas of Harrison County.
| Approximately 0.5 mile downstream of Main Street | None | +545
Blue River | Approximately 1,150 feet upstream of Norfolk Southern Railway | None | +551 | Unincorporated Areas of Harrison County.
| Approximately 0.77 mile upstream of Norfolk Southern Railway | None | +554
Indian Creek Tributary 27 | Approximately 1,940 feet downstream of State Route 64 | None | +645 | Unincorporated Areas of Harrison County.
| Approximately 0.41 mile upstream of Private Drive #5755 | None | +699
Ohio River | At the Meade County boundary | None | +431 | Town of Mauckport.
| At the Jefferson County boundary | None | +446 | Town of New Amsterdam, Unincorporated Areas of Harrison County.
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Mauckport
Maps are available for inspection at the Harrison County Plan Commission, 245 Atwood Street Northeast, Suite 215, Corydon, IN 47112.
Town of New Amsterdam
Maps are available for inspection at the Harrison County Plan Commission, 245 Atwood Street Northeast, Suite 215, Corydon, IN 47112.
Unincorporated Areas of Harrison County
Maps are available for inspection at the Harrison County Plan Commission, 245 Atwood Street Northeast, Suite 215, Corydon, IN 47112.
Magoffin County, Kentucky, and Incorporated Areas
Beetree Branch (backwater effects from Licking River) | At the Licking River confluence | None | +956 | Unincorporated Areas of Magoffin County.
| Approximately 885 feet upstream of the Licking River confluence | None | +956
Big Half Mountain Creek (backwater effects from Licking River) | At the Licking River confluence | None | +901 | Unincorporated Areas of Magoffin County
| Approximately 355 feet upstream of Clyde Holliday Cemetery Road | None | +901
Brushy Fork (backwater effects from Licking River) | At the Licking River confluence | None | +976 | Unincorporated Areas of Magoffin County.
| Approximately 865 feet upstream of the Licking River confluence | None | +976
Buck Branch (backwater effects from Licking River) | At the Licking River confluence | None | +932 | Unincorporated Areas of Magoffin County.
| Approximately 1,615 feet upstream of the Licking River confluence | None | +932
Elk Creek (backwater effects from Licking River) | At the Licking River confluence | +846 | +848 | Unincorporated Areas of Magoffin County.
| Approximately 175 feet upstream of Combs Branch Road | +846 | +848
Gardner Branch (backwater effects from Licking River) | At the Licking River confluence | +847 | +849 | Unincorporated Areas of Magoffin County.
| Approximately 615 feet upstream of Connelly Farm Road | +847 | +849
Grape Creek (backwater effects from Licking River) | At the Licking River confluence | None | +828 | Unincorporated Areas of Magoffin County.
| Approximately 0.7 mile upstream of the Licking River confluence | None | +828
Gun Creek (backwater effects from Licking River) | At the Licking River confluence | None | +890 | Unincorporated Areas of Magoffin County.
| Approximately 700 feet upstream of State Highway 7 | None | +890
Johnson Creek (backwater effects from Licking River) | At the Licking River confluence | None | +829 | Unincorporated Areas of Magoffin County.
| Approximately 870 feet upstream of State Highway 134 | None | +829
Left Fork Licking River (backwater effects from Licking River) | Approximately 0.8 mile upstream of Bert T. Combs Mountain Parkway | +844 | +846 | Unincorporated Areas of Magoffin County.
| Approximately 1,505 feet upstream of State Highway 3337 | +844 | +846
Lick Creek (backwater effects from Licking River) | At the Licking River confluence | None | +814 | Unincorporated Areas of Magoffin County.
| Approximately 120 feet downstream of Hensley Road | None | +814
Licking River | At the Morgan County boundary | None | +806 | City of Salyersville, Unincorporated Areas of Magoffin County.
| Approximately 800 feet upstream of Quicksand Fork Road | None | +1014
Licking River Arc 1 | At the Licking River confluence | +847 | +849 | Unincorporated Areas of Magoffin County.
| At the Licking River divergence | +848 | +849
Licking River Arc 2 | At the Licking River confluence | +850 | +852 | City of Salyersville, Unincorporated Areas of Magoffin County.
| Approximately 1,935 feet downstream of Main Street | +851 | +852
Middle Fork Licking River (backwater effects from Licking River) | At the Licking River confluence | +844 | +846 | Unincorporated Areas of Magoffin County.
| Approximately 0.8 mile upstream of Bert T. Combs Mountain Parkway | +844 | +846
Oakley Creek (backwater effects from Licking River) | At the Licking River confluence | None | +883 | Unincorporated Areas of Magoffin County.
| Approximately 1,140 feet upstream of State Highway 1635 | None | +883
Pricy Creek (backwater effects from Licking River) | At the Licking River confluence | None | +808 | Unincorporated Areas of Magoffin County.
| Approximately 670 feet upstream of State Highway 3333 | None | +808
Quicksand Fork (backwater effects from Licking River) | At the Licking River confluence | None | +1012 | Unincorporated Areas of Magoffin County.
| Approximately 360 feet upstream of Quicksand Fork Road | None | +1012
Right Fork Buck Branch (backwater effects from Licking River) | At the Buck Branch confluence | None | +932 | Unincorporated Areas of Magoffin County.
| Approximately 95 feet downstream of Buck Creek Road | None | +932
Right Fork Licking River (backwater effects from Licking River) | Approximately 0.8 mile upstream of Bert T. Combs Mountain Parkway | +844 | +846 | Unincorporated Areas of Magoffin County.
| Approximately 1,670 feet upstream of Ghost Branch Road | +844 | +846
Salt Lick Branch (backwater effects from Licking River) | At the Licking River confluence | None | +924 | Unincorporated Areas of Magoffin County.
| Approximately 0.6 mile upstream of State Highway 7 | None | +924
Trace Fork (backwater effects from Licking River) | At the Licking River confluence | None | +943 | Unincorporated Areas of Magoffin County.
| Approximately 1,410 feet upstream of the Licking River confluence | None | +943
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Salyersville
Maps are available for inspection at City Hall, 315 East Maple Street, Salyersville, KY 41465.
Unincorporated Areas of Magoffin County
Maps are available for inspection at the Magoffin County Courthouse, Judge's Office, 457 Parkway Drive, Salyersville, KY 41465.
Wayne County, West Virginia, and Incorporated Areas
Big Sandy River | At the Ohio River confluence | +549 | +550 | Town of Fort Gay, Unincorporated Areas of Wayne County.
| At the Tug Fork confluence | +576 | +575
Mill Creek (backwater effects from Tug Fork) | From the Tug Fork confluence to approximately 1.1 miles upstream of the Tug Fork confluence | +577 | +575 | Town of Fort Gay.
Tug Fork | At the Big Sandy River confluence | +576 | +575 | Town of Fort Gay.
| Approximately 0.5 mile upstream of the Big Sandy River confluence | +577 | +575
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Fort Gay
Maps are available for inspection at the Town Hall, 3407 Wayne Street, Fort Gay, WV 25514.
Unincorporated Areas of Wayne County
Maps are available for inspection at the Wayne County Courthouse, 700 Hendricks Street, Wayne, WV 25570.
Marquette County, Wisconsin, and Incorporated Areas
Fox River | Approximately 1.8 miles downstream of State Highway 22 | +771 | +770 | City of Montello, Unincorporated Areas of Marquette County, Village of Endeavor.
| At the Columbia County boundary | +782 | +779
Montello River | Approximately 292 feet downstream of the State Highway 22 bridge | +774 | +771 | City of Montello.
| At Montello Granite Company Dam | +787 | +774
Neenah Creek | At the most downstream Columbia County boundary | +783 | +782 | Unincorporated Areas of Marquette County.
| At the most upstream Columbia County boundary | +788 | +789
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Montello
Maps are available for inspection at 20 Underwood Avenue, Montello, WI 53949.
Unincorporated Areas of Marquette County
Maps are available for inspection at 77 West Park Street, Montello, WI 53949.
Village of Endeavor
Maps are available for inspection at 400 Church Street, Endeavor, WI 53930.
Sauk County, Wisconsin, and Incorporated Areas
Baraboo River | At the Columbia County boundary | +802 | +804 | City of Baraboo, City of Reedsburg, Unincorporated Areas of Sauk County, Village of La Valle, Village of North Freedom, Village of Rock Springs.
| At the Juneau County boundary | +910 | +912
Devil's Lake Tributary (backwater effects from Baraboo River) | At the Baraboo River confluence | +819 | +820 | City of Baraboo.
| Approximately 780 feet downstream of Old Lake Road | +819 | +820
Hay Creek (backwater effects from Baraboo River) | Approximately 75 feet downstream of County Highway V | +881 | +882 | City of Reedsburg, Unincorporated Areas of Sauk County.
| Approximately 1,860 feet upstream of County Highway V | +881 | +882
Little Baraboo River (backwater effects from Baraboo River) | At the Baraboo River confluence | +892 | +895 | Unincorporated Areas of Sauk County, Village of La Valle.
| Approximately 70 feet downstream of State Highway 58 | +892 | +895
Narrows Creek (backwater effects from Baraboo River) | At the Baraboo River confluence | +870 | +872 | Unincorporated Areas of Sauk County, Village of Rock Springs.
| At the downstream side of State Highway 154 | +870 | +872
Plum Creek (backwater effects from Baraboo River) | At the Baraboo River confluence | +909 | +912 | Unincorporated Areas of Sauk County.
| Approximately 0.78 mile upstream of confluence with Baraboo River | +911 | +912
Seeley Creek (backwater effects from Baraboo River) | At the Baraboo River confluence | +864 | +865 | Unincorporated Areas of Sauk County.
| Approximately 1,450 feet downstream of Freedom Road | +864 | +865
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Baraboo
Maps are available for inspection at City Hall, 135 4th Street, Baraboo, WI 53913.
City of Reedsburg
Maps are available for inspection at City Hall, 134 South Locust Street, Reedsburg, WI 53959.
Unincorporated Areas of Sauk County
Maps are available for inspection at the West Square Building, 505 Broadway, Baraboo, WI 53913.
Village of La Valle
Maps are available for inspection at the Village Hall, 103 West Main Street, La Valle, WI 53941.
Village of North Freedom
Maps are available for inspection at the Village Hall, 103 North Maple Street, North Freedom, WI 53951.
Village of Rock Springs
Maps are available for inspection at the Village Hall, 101 1st Street, Rock Springs, WI 53961.

(Catalog of Federal Domestic Assistance No. 97.022, “Flood Insurance.”)

Dated: October 28, 2011.
David L. Miller,
Associate Administrator, Federal Insurance and Mitigation Administration, Department of Homeland Security, Federal Emergency Management Agency.

[FR Doc. 2011-29337 Filed 11-10-11; 8:45 am]

BILLING CODE 9110-12-P